FEDERAL EMERGENCY MANAGEMENT AGENCY

[FEMA-1445-DR]

Alaska; Amendment No. 1 to Notice of a Major Disaster Declaration

AGENCY: Federal Emergency Management Agency (FEMA).

ACTION: Notice.

SUMMARY: This notice amends the notice of a major disaster for the State of Alaska (FEMA-1445-DR), dated December 4, 2002, and related determinations.

EFFECTIVE DATE: December 20, 2002.

FOR FURTHER INFORMATION CONTACT: Magda Ruiz, Response and Recovery Directorate, Federal Emergency Management Agency, Washington, DC 20472, (202) 646-2705 or Magda.Ruiz@fema.gov.

SUPPLEMENTARY INFORMATION: Notice is hereby given that the incident period for this disaster is reopened due to additional flooding, caused by the same weather “block” that spawned the initial set of storms, and which is of the same nature, in the same location, causing the same type of impact as the initial event; occurs close in time to the initial event in the interim period between the request and the declaration; and on its own has impacts that meet the threshold to warrant supplemental federal disaster assistance. The incident period for this declared disaster is now October 23, 2002, and continuing.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.556, Fire Management Assistance; 83.558, Individual and Household Housing; 83.559, Individual and Household Disaster Housing Operations; 83.560 Individual and Household Program—Other Needs, 83.544, Public Assistance Grants; 83.548, Hazard Mitigation Grant Program.)
Joe M. Allbaugh,
Director.

[FR Doc. 03-474 Filed 1-9-03; 8:45 am]

BILLING CODE 6718-02-P